DEPARTMENT OF HOMELAND SECURITY

Federal Emergency Management Agency

44 CFR Part 65

[Docket ID FEMA-2008-0020; Internal Agency Docket No. FEMA-B-1063]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the FEMA Assistant Administrator for Mitigation reconsider the changes. The modified BFEs may be changed during the 90-day period.

ADDRESSES: The modified BFEs for each community are available for inspection at the office of the Chief Executive Officer of each community. The respective addresses are listed in the table below.

FOR FURTHER INFORMATION CONTACT: Kevin C. Long, Engineering Management Branch, Mitigation Directorate, Federal Emergency Management Agency, 500 C Street, SW., Washington, DC 20472, (202) 646-2820.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Idaho: Teton | Unincorporated areas of Teton County (08-10-0585P) | May 21, 2009; May 28, 2009; Teton Valley News | The Honorable Larry Young, Chairman, Teton County, Board of Commissioners, P.O. Box 756, Driggs, ID 83422 | September 25, 2009 | 160230
Minnesota:
Olmsted | Unincorporated areas of Olmsted County (09-05-1227P) | May 26, 2009; June 2, 2009; Post-Bulletin | The Honorable Ken Brown, Commissioner, c/o County Administration, 151 4th Street Southeast, Rochester, MN 55904 | May 15, 2009 | 270626
Olmsted | City of Rochester (09-05-1227P) | May 26, 2009; June 2, 2009; Post-Bulletin | The Honorable Ardell F. Brede, Mayor, City of Rochester, 201 4th Street Southeast, Room 281, Rochester, MN 55904 | May 15, 2009 | 275246
Stearns | City of Cold Springs (09-05-2287P) | June 2, 2009; June 9, 2009; Cold Springs Record | The Honorable Doug Schmitz, Mayor, City of Cold Spring, 12 11th Avenue North, Cold Spring, MN 56320 | October 7, 2009 | 270444
Missouri: Jefferson | Unincorporated areas of Jefferson County (09-07-0429P) | June 4, 2009; June 11, 2009; Jefferson County Leader | Mr. Chuck Banks, Jefferson County Executive, Jefferson County, P.O. Box 100, Hillsboro, MO 63050 | May 28, 2009 | 290808
Montana: Flathead | Unincorporated areas of Flathead County (09-08-0251P) | May 26, 2009; June 2, 2009; Daily Inter Lake | The Honorable Dale Lauman, Chairman, Flathead County Board of Commissioners, 800 South Main Street, Kalispell, MT 59901 | September 30, 2009 | 300023
New Mexico: Sandoval | City of Rio Rancho (09-06-0561P) | June 5, 2009; June 12, 2009; Albuquerque Journal | The Honorable Thomas E. Swisstack, Mayor, City of Rio Rancho, 3200 Civic Center Circle Northeast, Rio Rancho, NM 87144 | May 26, 2009 | 350146
South Carolina:
Aiken | Unincorporated areas of Aiken County (09-04-1792P) | May 8, 2009; May 15, 2009; Aiken Standard | The Honorable Ronnie Young, Council Chairman, Aiken County Council, 736 Richland Avenue West, Aiken, SC 29801 | April 30, 2009 | 450002
Aiken | City of North Augusta (09-04-1792P) | May 8, 2009; May 15, 2009; Aiken Standard | The Honorable Lark W. Jones, Mayor, City of North Augusta, Post Office Box 6400, North Augusta, SC 29861 | April 30, 2009 | 450007
South Dakota: Lawrence | City of Deadwood (09-08-0225P) | June 3, 2009; June 10, 2009; Lawrence County Journal | The Honorable Francis A. Toscana, Mayor, City of Deadwood, P.O. Box 413, Deadwood, SD 57732 | October 8, 2009 | 460045
Texas: Kerr | City of Kerrville (09-06-0116P) | May 11, 2009; May 18, 2009; Kerrville Daily Times | The Honorable Todd Bock, Mayor, City of Kerrville, 800 Junction Highway, Kerrville, TX 78028 | September 15, 2009 | 480420
Utah: Davis | City of Centerville (07-08-0754P) | May 26, 2009; June 2, 2009; Salt Lake Tribune | The Honorable Ronald G. Russell, Mayor, City of Centerville, 73 West Ricks Creek Way, Centerville, UT 84014 | May 12, 2009 | 490040
Virginia:
Rockingham | Town of Bridgewater (09-03-0163P) | May 21, 2009; May 28, 2009; Daily News Record | Mr. Bob F. Holton, Town Superintendent, Town of Bridgewater, 201 Green Street, Bridgewater, VA 22812 | May 12, 2009 | 510134
Rockingham | Unincorporated areas of Rockingham County (09-03-0163P) | May 21, 2009; May 28, 2009; Daily News Record | Mr. Joseph F. Paxton, County Administrator, Rockingham County, 20 East Gay Street, Harrisonburg, VA 22801 | May 12, 2009 | 510133

(Catalog of Federal Domestic Assistance No. 97.022, “Flood Insurance.”)

Deborah S. Ingram,
Acting Deputy Assistant Administrator for Mitigation, Mitigation Directorate, Department of Homeland Security, Federal Emergency Management Agency.

[FR Doc. E9-27111 Filed 11-9-09; 8:45 am]

BILLING CODE 9110-12-P